DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of December 12, 2011 through December 16, 2011.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) the public agency has acquired from a foreign country services like or directly competitive with services which are supplied by such agency; and

(3) the acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) notwithstanding section 223(b)(1), the 1-year period preceding the 1-year period described in paragraph (2).

Affirmative Determinations For Worker Adjustment Assistance

The following certifications have been issued. The date following the company name and location of each determination references the impact date for all workers of such determination.

The following certifications have been issued. The requirements of Section 222(a)(2)(A) (increased imports) of the Trade Act have been met.

TA-W No. | Subject firm | Location | Impact date
80,418 | Invista S.A.R.L., Mundy Maintenance Services and Operations | Waynesboro, VA | February 20, 2011.
80,418A | Security Forces, Inc. (SFI), Working on-Site at Invista S.A.R.L | Waynesboro, VA | September 6, 2010.
80,451 | Dillan Chenille, Inc. | Martinsville, VA | September 19, 2010.
80,463 | Clow Water Systems Company, Carol Harris Staffing | Coshocton, OH | September 23, 2010.
80,479 | Excelsior Services Group, Pinnacle Technical Resources, Working On-Site at Cognizant | Fort Worth, TX | September 28, 2010.
80,497 | Southwoods, LLC, American Forest Products Division, Roper Personnel | Manning, SC | October 6, 2010.
80,520 | Positronic Industries, Inc., Penmac | Mount Vernon, MO | October 13, 2010.
80,520A | Positronic Industries, Inc., Penmac | Springfield, MO | October 13, 2010.
80,528 | Timbron International, Inc. | Stockton, CA | October 17, 2010.
81,011 | Cyberdyne, Inc. | New Eagle, PA | February 13, 2010.
81,031 | Ultrablend, LLC, Ambassador Personnel Services | Charlotte, NC | February 13, 2010.
81,097 | Kimberly-Clark Worldwide, Inc., Kimberly-Clark Corp., Injury Free Inc., Ventilation Power Cleaning, etc | Everett, WA | February 13, 2010.

The following certifications have been issued. The requirements of Section 222(a)(2)(B) (shift in production or services) of the Trade Act have been met.

TA-W No. | Subject firm | Location | Impact date
80,429 | Kennametal, Inc., Kennametal Finance Organization | Latrobe, PA | June 18, 2011.
80,429A | Kelly Services, Working of Site at Kennametal, Inc., Kennametal Finance Organization | Latrobe, PA | September 9, 2010.
80,453 | Seroyal USA, Inc, Atrium Biotech Investments, Inc., HVL LLC | Redmond, WA | September 20, 2010.
80,492 | RockTenn, Consumer Packaging Division, Custom Staffing National | Milwaukee, WI | October 4, 2010.
80,498 | InterMetro Industries Corporation, Emerson Electric, Custom Staffing | Fostoria, OH | October 5, 2010.
80,501 | TT Electronics, International Resistive Company, Inc. | Boone, NC | October 10, 2010.
80,504 | BASF Corporation, Coatings Division | Belvidere, NJ | December 23, 2011.
80,504A | Leased Workers from Nextsource, Working On-Site at BASF Corporation, Coatings Division | Belvidere, NJ | October 11, 2010.
80,527 | MAHLE Engine Components USA, Inc., MAHLE Industries, Inc., Hamilton Connections and Monroe Staffing | Trumbull, CT | October 17, 2010.
81,001 | Freeman Metal Products, Inc. | Ahoskie, NC | February 13, 2010.
81,005 | Terex USA, LLC, Powertemp Services, Express Pesonnel and Manpower | Wilmington, NC | February 13, 2010.
81,058 | Warren Corporation, Textile Apparel Divisions | Stafford Springs, CT | December 4, 2011.
81,064 | VTech Communications, Inc., Express and Kelly IT | Beaverton, OR | February 13, 2010.
81,070 | CVG CS LLC, Seating Division, including on-site leased workers from Staffmark | Tellico Plains, TN | February 13, 2010.
81,076 | Amphenol Aerospace Corporation, Superior Technical Resource, Staffworks, Adecco and Manpower | Sidney, NY | February 13, 2010.
81,080 | The Travelers Indemnity Company, Personal Insurance Division, Tele-Workers to this Location | Glens Falls, NY | February 13, 2010.
81,085 | Western United Life Assurance Company, Global Life Holdings, LLC, Insurance Administration, etc | Spokane, WA | February 13, 2010.
81,091 | Sperian Protection Instrumentation LLC, Honeywell International, Spherion Staffing Services, Manpower, etc | Middletown, CT | February 13, 2010.
81,095 | Sanyo Manufacturing Corporation, Sanyo Electric Division, Panasonic Corporation | Forrest City, AR | December 31, 2011.
81,095A | Leased Workers From G4S (Wackenhut) and Ozark Motor Lines, Working On-Site at Sanyo Manufacturing Corporation | Forrest City, AR | February 13, 2010.
81,099 | Brake Parts, Inc., Brake and Chassis Division, Affinia Group, Nicolet Staffing | Waupaca, WI | February 13, 2010.
81,103 | Kerry, Inc., Kerry Holding Co., Express Personnel, Aerotek and Command Staffing | Kent, WA | February 13, 2010.
81,108 | Mayville Products Corporation, QPS Employment Group | Mayville, WI | February 13, 2010.
81,111 | Ametek National Controls Corporation, Instrumentation and Specialty, Ametek, Staff Force and Manpower | West Chicago, IL | October 9, 2011.
81,111A | First Choice Staffing, Ametek National Controls, Instrumentation and Specialty Controls Division | West Chicago, IL | February 13, 2010.
81,123 | Dana Holding Corporation, Light Vehicle Division, Manpower and Experis | Marion, IN | June 10, 2010.
81,123A | Leased Workers From Experis, Working On-Site at Dana Holding Corporation | Marion, IN | February 13, 2010.

The following certifications have been issued. The requirements of Section 222(b) (supplier to a firm whose workers are certified eligible to apply for TAA) of the Trade Act have been met.

TA-W No. | Subject firm | Location | Impact date
80,517 | A.G. Simpson (USA), Inc., Shreveport Plant, Career Adventures | Shreveport, LA | October 13, 2010.
80,521 | Billhorn Converters, LLC, Northweat Division, Express Employment | Kalama, WA | October 12, 2010.
80,531 | PPG Industries, Inc., Automotive Coatings, Belcan and Aerotek, Working On-Site at General Motors | Shreveport, LA | October 18, 2010.
81,008 | Lintelle Engineering, Inc., Kelly Services | Scotts Valley, CA | February 13, 2010.
81,121 | Third Degree Graphics | Ventura, CA | February 13, 2010.

Negative Determinations for Worker Adjustment Assistance

In the following cases, the investigation revealed that the eligibility criteria for worker adjustment assistance have not been met for the reasons specified.

The investigation revealed that the criteria under paragraphs(a)(2)(A) (increased imports) and (a)(2)(B) (shift in production or services to a foreign country) of section 222 have not been met.

TA-W No. | Subject firm | Location | Impact date
80,347 | Pension Systems Corporation | Sherman Oaks, CA. |
80,352 | Penske Logistics, LLC,, General Electric/Penske, El Paso Distribution, Warehouse Division | El Paso, TX. |
80,447 | Dell USA LP, Dell, Inc., Support for Internal Services/Financial, Applications, etc. | Round Rock, TX. |
80,476 | Wells Fargo Bank, N.A., Auto Finance Collections Group | Bethlehem, PA. |
80,511 | Specialty Bar Products Company, Doncasters, Inc. | Blairsville, PA. |
80,533 | Champion Photochemistry | Rochester, NY. |

Determinations Terminating Investigations of Petitions for Worker Adjustment Assistance

After notice of the petitions was published in the Federal Register and on the Department's Web site, as required by Section 221 of the Act (19 U.S.C. 2271), the Department initiated investigations of these petitions.

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
81,148 | Wells Fargo | San Francisco, CA. |

I hereby certify that the aforementioned determinations were issued during the period of December 12, 2011 through December 16, 2011. These determinations are available on the Department's Web site at tradeact_taa/taa_search_form.cfm under searchable listing of determinations or by calling the Office of Trade Adjustment Assistance toll-free at (888) 365-6822.

Dated: December 20, 2011.
Michael W. Jaffe,
Certifying Officer, Office of Trade Adjustment Assistance.

[FR Doc. 2011-33327 Filed 12-28-11; 8:45 am]

BILLING CODE 4510-FN-P